FEDERAL COMMUNICATIONS COMMISSION

47 CFR Part 25

[IB Docket No. 95-91; FCC 10-82]

Establishment of Rules and Policies for the Satellite Digital Audio Radio Service in the 2310-2360 MHz Frequency Band

AGENCY: Federal Communications Commission.

ACTION: Final rules; announcement of effective date.

SUMMARY: In this document, the Commission announces that the Office of Management and Budget (OMB) has approved, for a period of three years, the information collection requirements contained in the Satellite Digital Audio Radio Service (SDARS) Second Report and Order. The information collection requirements were approved on July 5, 2011 by OMB.

DATES: The amendments to 47 CFR 25.144(e)(3), 25.144(e)(8), 25.144(e)(9), 25.263(b) and 25.263(c), published at 75 FR 45058, August 2, 2010, are effective on September 19, 2011.

FOR FURTHER INFORMATION CONTACT: For additional information contact Cathy Williams on (202) 418-2918 or via e-mail to: cathy.williams@fcc.gov.

SUPPLEMENTARY INFORMATION: This document announces that on July 5, 2011 OMB approved, for a period of three years, the information collection requirements contained in 47 CFR 25.144 and 25.263. The Commission publishes this document to announce the effective date of these rule sections. See Satellite Digital Audio Radio Service (SDARS) Second Report and Order (FCC 10-82; IB Docket No. 95-91), 75 FR 45058, August 2, 2010.

Synopsis

As required by the Paperwork Reduction Act of 1995, (44 U.S.C. 3507), the Commission is notifying the public that it received OMB approval on July 5, 2011, for the information collection requirement contained in 47 CFR 25.144 and 25.263. Under 5 CFR part 1320, an agency may not conduct or sponsor a collection of information unless it displays a current, valid OMB Control Number.

No person shall be subject to any penalty for failing to comply with a collection of information subject to the Paperwork Reduction Act that does not display a valid OMB Control Number.

The OMB Control Number is 3060-1153 and the total annual reporting burdens for respondents for this information collection are as follows:

Title: Satellite Digital Audio Radio Service (SDARS).

Form Number: Not applicable.

Type of Review: New collection.

OMB Control Number: 3060-1153.

OMB Approval Date: 07/05/2011.

OMB Expiration Date: 07/31/2014.

Respondents: Business or other for-profit entities.

Number of Respondents: 1 respondent; 74 responses.

Estimated Time per Response: 4-12 hours

Frequency of Response: On occasion filing requirement, recordkeeping requirement and third party disclosure requirement.

Obligation to Respond: The information collection requirements accounted for in this collection are necessary to determine the technical and legal qualifications of SDARS applicants or licensees to operate a station, transfer or assign a license, and to determine whether the authorization is in the public interest, convenience, and necessity. The statutory authority for this information collection is contained in Sections 4, 301, 302, 303, 307, 309 and 332 of the Communications Act, as amended, and 47 U.S.C. 154, 301, 302a, 303, 307, 309, and 332.

Total Annual Burden: 400 hours.

Annual Cost Burden: $171,320.

Privacy Act Impact Assessment: No impact(s).

Nature and Extent of Confidentiality: There is no need for confidentiality with this information collection.

Needs and Uses: On May 20, 2010, the Commission adopted and released a Second Report and Order titled, “In the Matter of Establishment of Rules and Policies for the Digital Audio Radio Satellite Service in the 2310-2360 MHz Frequency Band,” IB Docket No. 95-91, GEN Docket No. 90-357, RM-8610, 25 FCC Rcd 11710 (2010). In this Second Report and Order, the Commission adopted a framework for the regulation of SDARS terrestrial repeaters. First, the Commission adopted technical rules governing the operation of SDARS repeaters that will not unduly constrain the deployment of SDARS repeaters, but that will, at the same time, limit the potential for harmful interference to adjacent spectrum users in the Wireless Communications Service (WCS). Second, the Commission adopted a blanket-licensing regime to facilitate the flexible deployment of SDARS repeaters, which are necessary to ensure a high quality service to the public, while ensuring that such repeater operations comply with the Commission's rules regarding RF safety, antenna marking and lighting, and equipment authorization, as well as with international agreements. The Commission adopted a site-by-site licensing regime for repeater operations that did not qualify for blanket licensing. Finally, the Commission addressed other issues regarding SDARS repeater operations that are not associated with the interference concerns raised by WCS licensees. Specifically, the Commission adopted rules to ensure that SDARS repeaters remain truly complementary to a satellite-based service, and that SDARS terrestrial repeaters are not used to transmit local programming or advertising.

47 CFR 25.144(e)(3)—SDARS licensee shall, before deploying any new, or modifying any existing, terrestrial repeater, notify potentially affected WCS licensees pursuant to the procedure set forth in 25.263.

47 CFR 25.144(e)(8)—SDARS licensees must file an earth station application using Form 312 to obtain blanket authority for terrestrial repeaters operating at 12 kW EIRP (average) or less and in compliance with FCC rules; application must include certain parameters of operation and a certification that the proposed SDARS terrestrial repeater operations will comply with all the rules adopted for such operations.

47 CFR 25.144(e)(9)—The operation of non-compliant repeaters and/or repeaters operating above 12 kW EIRP (average) must be applied for and authorized under individual site-by-site licenses using Form 312 and appropriate waiver of the Commission's rules.

47 CFR 25.263(b)—SDARS licensees are required to provide informational notifications as specified in 25.263, including requirement that SDARS licensees must share with WCS licensees certain technical information at least 10 business days before operating a new repeater, and at least 5 business days before operating a modified repeater.

47 CFR 25.263(c); Recordkeeping/Third party disclosure—SDARS licensees operating terrestrial repeaters must maintain an accurate and up-to-date inventory of terrestrial repeaters operating above 2 W EIRP, including the information set forth in 25.263(c)(2) for each repeater, which shall be made available to the Commission upon request. Requirement can be satisfied by maintaining inventory on a secure Web site that can be accessed by authorized Commission staff.

Not codified (para. 278 of Order)—SDARS licensees must provide potentially affected WCS licensees with an inventory of their terrestrial repeater infrastructure.

Federal Communications Commission.
Avis Mitchell,
Federal Register Liaison, Office of the Secretary, Office of Managing Director.

[FR Doc. 2011-23846 Filed 9-16-11; 8:45 am]

BILLING CODE 6712-01-P